DEPARTMENT OF LABOR

Employment and Training Administration

[TA-W-64,669]

Century Furniture, LLC, Chair Upholstery Campus and Uphosltery Division, Hickory, NC; Notice of Revised Determination on Reconsideration

On March 13, 2009, the Department issued an Affirmative Determination Regarding Application on Reconsideration applicable to workers and former workers of the subject firm. The notice was published in the Federal Register on March 31, 2009 (74 FR 14594).

The initial investigation initiated on December 15, 2008, resulted in a negative determination issued on January 12, 2009, was based on the finding that the subject firm did not separate or threaten to separate a significant number or proportion of workers as required by Section 222 of the Trade Act of 1974. The denial notice was published in the Federal Register on February 2, 2009 (74 FR 5871).

In the request for reconsideration, the company official provided additional information regarding employment and layoffs at the subject firm. The company official confirmed that employment at the subject facility declined significantly in December, 2008 and further declined in January, 2009. The investigation also revealed that sales and production at the subject firm declined from January through November 2008 over the corresponding 2007 period.

Furthermore, the Department conducted a survey of the major declining customers regarding their purchases of upholstered furniture in 2006, 2007, January through November, 2007 and January through November, 2008. The survey of the major declining customers revealed that the customers increased their reliance on imported upholstered furniture during the relevant period.

In accordance with Section 246 the Trade Act of 1974 (26 U.S.C. 2813), as amended, the Department of Labor herein presents the results of its investigation regarding certification of eligibility to apply for alternative trade adjustment assistance (ATAA) for older workers.

In order for the Department to issue a certification of eligibility to apply for ATAA, the group eligibility requirements of Section 246 of the Trade Act must be met. The Department has determined in this case that the requirements of Section 246 have been met.

A significant number of workers at the firm are age 50 or over and possess skills that are not easily transferable. Competitive conditions within the industry are adverse.

Conclusion

After careful review of the additional facts obtained on reconsideration, I conclude that increased imports of articles like or directly competitive with those produced at Century Furniture, LLC, Chair Upholstery Campus and Upholstery Division, Hickory, North Carolina, contributed importantly to the declines in sales or production and to the total or partial separation of workers at the subject firm. In accordance with the provisions of the Act, I make the following certification:

“All workers of Century Furniture, LLC, Chair Upholstery Campus and Upholstery Division, Hickory, North Carolina, who became totally or partially separated from employment on or after December 11, 2007, through two years from the date of this certification, are eligible to apply for adjustment assistance under Section 223 of the Trade Act of 1974, and are eligible to apply for alternative trade adjustment assistance under Section 246 of the Trade Act of 1974.”

Signed in Washington, DC, this 20th day of April 2009.
Elliott S. Kushner
Certifying Officer, Division of Trade Adjustment Assistance.

[FR Doc. E9-9930 Filed 4-29-09; 8:45 am]

BILLING CODE 4510-FN-P